DEPARTMENT OF THE INTERIOR

National Park Service

[N6589; NPS-WASO-NAGPRA-NPS0041298; PPWOCRADN0-PCU00RP14.R50000]

Notice of Intended Repatriation: California State University, Dominguez Hills, Carson, CA

AGENCY: National Park Service, Interior.

ACTION: Notice.

SUMMARY: In accordance with the Native American Graves Protection and Repatriation Act (NAGPRA), the California State University, Dominguez Hills (CSUDH) intends to repatriate certain cultural items that meet the definition of unassociated funerary objects and that have a cultural affiliation with the Indian Tribes or Native Hawaiian organizations in this notice.

DATES: Repatriation of the cultural items in this notice may occur on or after December 18, 2025.

ADDRESSES: Send additional, written requests for repatriation of the cultural items in this notice to Johnny Sampson, California State University, Dominguez Hills, 1000 East Victoria Street, SBS G-323, Carson, CA 90704, email josampson@csudh.edu.

SUPPLEMENTARY INFORMATION: This notice is published as part of the National Park Service's administrative responsibilities under NAGPRA. The determinations in this notice are the sole responsibility of the CSUDH, and additional information on the determinations in this notice, including the results of consultation, can be found in the summary or related records. The National Park Service is not responsible for the determinations in this notice.

Abstract of Information Available

A total of 10 boxes of cultural items have been requested for repatriation. The 10 boxes of unassociated funerary objects include burned groundstone, obsidian projectile point, burned bowls and faunal material. CA-KER-22 and Black Mountain are an archaeological site recorded in 1948 by F.A. Riddell. There are no human remains in this collection and no known presence of hazardous materials.

Determinations

CSUDH has determined that:

• The 10 boxes of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Tejon Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 18, 2025. If competing requests for repatriation are received, CSUDH must determine the most appropriate requestor prior to repatriation. Requests for joint repatriation of the cultural items are considered a single request and not competing requests. CSUDH is responsible for sending a copy of this notice to the Indian Tribes and Native Hawaiian organizations identified in this notice and to any other consulting parties.

Authority: Native American Graves Protection and Repatriation Act, 25 U.S.C. 3004 and the implementing regulations, 43 CFR 10.9.

Dated: September 30, 2025.
Melanie O'Brien,
Manager, National NAGPRA Program.

[FR Doc. 2025-20107 Filed 11-17-25; 8:45 am]

BILLING CODE 4312-52-P